DEPARTMENT OF ENERGY

Federal Energy Regulatory Commission

[Project No. 2232-413 South Carolina]

Duke Energy Corporation; Notice of Availability of Environmental Assessment

June 4, 2001.

An environmental assessment (EA) is available for public review. The EA analyzes the environmental impacts of Duke Energy Corporation's (Duke) application to grant a non-project use of project land to City of York (York) to install a pipeline and intake, for raw water withdrawal, in Lake Wylie, a reservoir for the Catawba-Wateree Hydroelectric Project. Duke's proposed grant would also allow York to withdrawal up to 6 million gallons of water per day from Lake Wylie. The Catawba-Wateree Project is on the Catawba River in Lancaster, York, and Fairfield Counties, South Carolina, and Gaston, Lincoln, and Burke Counties, North Carolina.

The EA was written by staff in the Office of Energy Projects, Federal Energy Regulatory Commission. In the EA, Commission staff conclude that approving Duke's application to grant the use would not constitute a major federal action significantly affecting the quality of the human environment. Copies of the EA can be viewed on the web at www.ferc.fed.us/online/rims.htm. Call (202) 208-2222 for assistance. Copies are also available for inspection and reproduction at the Commission's Public Reference Room, located at 888 First Street, NE., Room 2A, Washington DC 20426, or by calling (202) 208-1371.

David P. Boergers,
Secretary.

[FR Doc. 01-14438 Filed 6-7-01; 8:45 am]

BILLING CODE 6717-01-M